DEPARTMENT OF HEALTH AND HUMAN SERVICES

Centers for Disease Control and Prevention

Advisory Committee on Breast Cancer in Young Women (ACBCYW)

In accordance with section 10(a)(2) of the Federal Advisory Committee Act (Pub. L. 92-463), the Centers for Disease Control and Prevention (CDC), announces the following meeting of the aforementioned committee:

Times and Dates: 9:00 a.m.-5:30 p.m. EST, December 4, 2014; 8:00 a.m.-12:00 p.m. EST, December 5, 2014.

Place: CDC, 4770 Buford Highway, Chamblee Building 107 1B/1C, Atlanta, Georgia 30341.

This meeting is also accessible by teleconference and web access. Teleconference and web access login information is as follows:

Toll-Free Telephone: 1-800-621-3587, Participant passcode: 9679129. There is also a toll number for anyone outside of the USA: TOLL NUMBER: 1-517-308-9263, Participant passcode: 96791NET CONFERENCE AND WEB URL: For December 4, 2014: https://www.mymeetings.com/nc/join/ Conference number: PW9240020, Audience passcode: 9679129.

For December 5, 2014: https://www.mymeetings.com/nc/join/ Conference number: PW9240028, Audience passcode: 9679129.

Participants can join the event directly at: https://www.mymeetings.com/nc/join.php?i=PW9240020&p=9679129&t=c.

Status: Open to the public, limited only by the space and phone lines available.

Purpose: The committee provides advice and guidance to the Secretary, HHS; the Assistant Secretary for Health; and the Director, CDC, regarding the formative research, development, implementation and evaluation of evidence-based activities designed to prevent breast cancer (particularly among those at heightened risk) and promote the early detection and support of young women who develop the disease. The advice provided by the Committee will assist in ensuring scientific quality, timeliness, utility, and dissemination of credible appropriate messages and resource materials.

Matters for Discussion: The agenda will include discussions on the current and emerging topics related to breast cancer in young women. These may include public health communication, breast cancer in young women digital and social media campaigns, and CDC updates. Topics will address efforts increase awareness around breast cancer risk, breast health, symptoms, diagnosis, and treatment of breast cancer in young women.

Agenda items are subject to change as priorities dictate.

Online Registration Required: In order to expedite the security clearance process required for entry into a Federal building, all ACBCYW attendees must register for the meeting online at least 7 days in advance at http://www.cdc.gov/cancer/breast/what_cdc_is_doing/meetings.htm. Please complete all the required fields before submitting your registration and submit no later than November 28, 2014. Each meeting day, attendees must provide CDC staff and security with driver's license/state issued ID, or passport.

Contact Person for More Information: Temeika L. Fairley, Ph.D., Designated Federal Officer, National Center for Chronic Disease Prevention and Health Promotion, CDC, 5770 Buford Hwy. NE., Mailstop K52, Atlanta, Georgia 30341, Telephone (770) 488-4518, Fax (770) 488-4760. Email: acbcyw@cdc.gov.

The Director, Management Analysis and Services Office, has been delegated the authority to sign Federal Register notices pertaining to announcements of meetings and other committee management activities, for both the Centers for Disease Control and Prevention, and Agency for Toxic Substances and Disease Registry.

Claudette Grant,
Acting Director, Management Analysis and Services Office, Centers for Disease Control and Prevention.

[FR Doc. 2014-26082 Filed 11-3-14; 8:45 am]

BILLING CODE 4163-18-P